DEPARTMENT OF JUSTICE

Antitrust Division

Notice Pursuant to the National Cooperative Research and Production Act of 1993—Grinding Optimization Venture

Notice is hereby given that, on October 2, 2003, pursuant to section 6(a) of the National Cooperative Research and Production Act of 1993, 15 U.S.C. 4301 et seq. (“the Act”), Grinding Optimization Venture has filed written notifications simultaneously with the Attorney General and the Federal Trade Commission disclosing (1) The identities of the parties and (2) the nature and objectives of the venture. The notifications were filed for the purpose of invoking the Act's provisions limiting the recovery of antitrust plaintiffs to actual damages under specified circumstances. Pursuant to section 6(b) of the Act, the identities of the parties are TechSolve, Inc., Cincinnati, OH; Delphi, Energy & Chassis System, Dayton, OH; Applied Grinding Technologies, Inc., Wixcom, MI; Purdue University, West Lafayette, IN; and Landis Gardner—A UNOVA Company, Waynesboro, PA. The nature and objectives of the venture are to develop and demonstrate the application of an intelligent system that uses techniques of soft computing and artificial intelligence to learn, control, monitor, and optimize a variety of complex precision grinding processes without resorting to trial and error.

Dorothy B. Fountain,
Deputy Director of Operations, Antitrust Division.

[FR Doc. 03-29831 Filed 11-28-03; 8:45 am]

BILLING CODE 4410-11-M